COMMITTEE FOR PURCHASE FROM PEOPLE WHO ARE BLIND OR SEVERELY DISABLED

Procurement List; Proposed deletions

AGENCY: Committee for Purchase From People Who Are Blind or Severely Disabled.

ACTION: Proposed deletions from the Procurement List.

SUMMARY: The Committee is proposing to delete product(s) from the Procurement List that were furnished by nonprofit agencies employing persons who are blind or have other severe disabilities.

DATES: Comments must be received on or before: February 07, 2021.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) are proposed for deletion from the Procurement List:

Product(s)

NSN(s)—Product Name(s):

7210-01-030-5311—Pillowcase, 32½″ X 20½″

7210-00-119-7357—Pillowcase, 32½″ X 20½″, White

Designated Source of Supply: Cambria County Association for the Blind and Handicapped, Johnstown, PA

Contracting Activity: DLA Troop Support, Philadelphia, PA

NSN(s)—Product Name(s):

8465-01-647-6670—US Forest Service Pack, Personal Gear Model 2014

Designated Source of Supply: Huntsville Rehabilitation Foundation, Huntsville, AL

Contracting Activity: DLA Troop Support, Philadelphia, PA

NSN(s)—Product Name(s):

6150-01-040-6848—Kit, Wiring, ATON Buoy

Designated Source of Supply: Greenville Rehabilitation Center, Greenville, SC

Contracting Activity: SFLC Procurement Branch 3, Baltimore, MD

NSN(s)—Product Name(s):

7910-00-685-3908—Pad, Machine, Polishing, Floor, 14″ x ¼″

7910-00-685-3909—Pad, Machine, Polishing, Floor, 16″ x ¼″

7910-00-685-3914—Pad, Machine, Scrubbing, Floor, 18″ x ¼″

7910-00-685-3915—Pad, Machine, Scrubbing, Floor, 16″ x ¼″

7910-00-685-4239—Pad, Machine, Stripping, Floor, 12″ x ¼″

7910-00-685-6656—Pad, Machine, Scrubbing, Floor, 12″ x ¼″

7910-00-685-6657—Pad, Machine, Scrubbing, Floor, 13″ x ¼″

7910-00-685-6659—Pad, Machine, Scrubbing, Floor, 15″ x ¼″

7910-00-685-6660—Pad, Machine, Scrubbing, Floor, 17″ x ¼″

7910-00-685-6671—Pad, Machine, Polishing, Floor, 15″ x ¼″

7910-00-685-6672—Pad, Machine, Polishing, Floor, 17″ x ¼″

7910-00-685-6686—Pad, Machine, Polishing, Floor, 12″ x ¼″

7910-00-685-6687—Pad, Machine, Polishing, Floor, 13″ x ¼″

7910-00-820-7989—Pad, Floor, Buffing, Nylon, Tan, 15″

7910-00-NIB-0006—Pad, Floor, Burnishing, Animal Hair, Gray, 17″

7910-00-NIB-0009—Pad, Floor, Burnishing, Animal Hair, Gray, 21″

7910-00-NIB-0016—Pad, Floor, Polishing, Animal Hair, Beige, 17″

7910-00-NIB-0029—Pad, Floor, Buffing, Polyester, Red, 14″

7910-00-NIB-0030—Pad, Floor, Buffing, Polyester, Red, 15″

7910-00-NIB-0034—Pad, Floor, Scrubbing, Polyester, Blue, 14″

7910-00-NIB-0040—Pad, Floor, Scrubbing, Polyester, Blue, 21″

7910-01-512-5933—Pad, Floor, Stripping, Polyester, Brown, 17″

7910-01-512-5937—Pad, Floor, Scrubbing, Polyester, Blue, 13″

7910-01-512-5950—Pad, Floor, Scrubbing, Polyester, Blue, 17″

Designated Source of Supply: Beacon Lighthouse, Inc., Wichita Falls, TX

Contracting Activity: GSA/FSS Greater Southwest ACQUISITI, Fort Worth, TX

Michael R. Jurkowski,
Deputy Director, Business & PL Operations.

[FR Doc. 2021-00151 Filed 1-7-21; 8:45 am]

BILLING CODE 6353-01-P